DEPARTMENT OF HOMELAND SECURITY

Coast Guard

[Docket No. USCG-2014-0879]

Lower Mississippi River Waterway Safety Advisory Committee; Vacancies

AGENCY: United States Coast Guard, DHS.

ACTION: Request for applicants.

SUMMARY: The Coast Guard seeks applications for membership on the Lower Mississippi River Waterway Safety Advisory Committee. This Committee advises and makes recommendations to the Coast Guard on matters relating to safe transit of vessels and products to and from the ports on the Lower Mississippi River and related waterways. Applicants selected for service on the Lower Mississippi River Waterway Safety Advisory Committee via this solicitation will not begin their respective terms until August 27, 2015.

DATES: Completed applications should reach the Coast Guard March 23, 2015.

ADDRESSES: Send your cover letter and resume indicating the position you wish to fill via one of the following methods:

• By mail: Lieutenant Junior Grade Colin Marquis, Lower Mississippi River Waterway Safety Advisory Committee, Alternate Designated Federal Officer, 200 Hendee Street, New Orleans, Louisiana 70114; or

• By fax: 504-365-2287, Attention: Lieutenant Junior Grade Colin Marquis, Lower Mississippi River Waterway Safety Advisory Committee, Alternate Designated Federal Officer; or

• By email: Colin.L.Marquis@uscg.mil, Subject line: The Lower Mississippi River Waterway Safety Advisory Committee.

FOR FURTHER INFORMATION CONTACT: Lieutenant Junior Grade Colin Marquis, Alternate Designated Federal Officer of Lower Mississippi River Waterway Safety Advisory Committee; telephone (504)365-2282 or email at Colin.L.Marquis@uscg.mil.

SUPPLEMENTARY INFORMATION: The Lower Mississippi River Waterway Safety Advisory Committee is a Federal advisory committee under the authority found in section 19 of the Coast Guard Authorization Act of 1991, (Pub. L. 102-241) as amended by section 621 of the Coast Guard Authorization Act of 2010, Public Law 111-281. This Committee is established in accordance with and operates under the provisions of the Federal Advisory Committee Act, title 5, United States Code, Appendix. The Lower Mississippi River Waterway Safety Advisory Committee advises the U.S. Coast Guard on matters relating to communications, surveillance, traffic management, anchorages, development, and operation of the New Orleans Vessel Traffic Service, and other related topics dealing with navigation safety on the Lower Mississippi River as required by the U.S. Coast Guard.

The Committee expects to meet at least two times annually. It may also meet for extraordinary purposes with the approval of the Designated Federal Officer. We will consider applications for 25 positions that expire or become vacant August 27, 2015. To be eligible, you should have experience regarding the transportation, equipment, and techniques that are used to ship cargo and to navigate vessels on the Lower Mississippi River and its connecting navigable waterways, including the Gulf of Mexico. The 25 positions available for application are broken down as follows:

1. Five members representing River Port authorities between Baton Rouge, Louisiana, and the Head of Passes of the Lower Mississippi River, of which one member shall be from the Port of St. Bernard and one member from the Port of Plaquemines.

2. Two members representing vessel owners domiciled in the state of Louisiana.

3. Two members representing organizations which operate harbor tugs or barge fleets in the geographical area covered by the Committee.

4. Two members representing companies which transport cargo or passengers on the navigable waterways in the geographical area covered by the Committee.

5. Three members representing State Commissioned Pilot organizations, with one member each representing New Orleans-Baton Rouge Steamship Pilots Association, the Crescent River Port Pilots Association, and the Associated Branch Pilots Association.

6. Two at-large members who utilize water transportation facilities located in the geographical area covered by the Committee.

7. Three members each one representing one of three categories: Consumers, shippers, and importers-exporters that utilize vessels which utilize the navigable waterways covered by the Committee.

8. Two members representing those licensed merchant mariners, other than pilots, who perform shipboard duties on those vessels which utilize navigable waterways covered by the Committee.

9. One member representing an organization that serves in a consulting or advisory capacity to the maritime industry.

10. One member representing an environmental organization.

11. One member drawn from the general public.

12. One member representing the Associated Federal Pilots and Docking Masters of Louisiana.

Each member serves for a term of 2 years. Members may serve consecutive terms. All members serve at their own expense and receive no salary, reimbursement of travel expenses, or other compensation from the Federal Government. If you are selected as a member from the general public and from at-large members who utilize water transportation facilities in the geographical area covered by the Committee, you will be appointed and serve as a Special Government Employee as defined in section 202(a) of title 18, United States Code. As a candidate for appointment as a Special Government Employee, applicants are required to complete a Confidential Financial Disclosure Report (OGE Form 450). The Coast Guard may not release the reports or the information in them to the public except under an order issued by a Federal court or as otherwise provided under the Privacy Act (5 U.S.C. 552a). Applicants can obtain this form by going to the Web site of the Office of Government Ethics (www.oge.gov), or by contacting the individual listed above. Applications for Special Government Employee which are not accompanied by a completed OGE Form 450 will not be considered.

Registered lobbyists are not eligible to serve on federal advisory committees in her or his individual capacity. See guidance notice (79 FR 47482, August 13, 2014). Positions we list for members from the general public and from at-large members who utilize water transportation facilities in the geographical area covered by the Committee would be someone appointed in her or his individual capacity and she or he would be designated as a Special Government Employee as defined in 202(a) of title 18, United States Code. Registered lobbyists are lobbyists required to comply with provisions contained in the Lobbying Disclosure Act of 1995 (Pub. L. 104-65, as amended by title II of Pub. L. 110-81).

The Department of Homeland Security does not discriminate in selection of Committee members on the basis of race, color, religion, sex, national origin, political affiliation, sexual orientation, gender identity, marital status, disability and genetic information, age, membership in an employment organization, or any other non-merit factor. The Department of Homeland Security strives to achieve a widely diverse candidate pool for all of its recruitment actions.

To visit our online docket, go to http://www.regulations.gov, enter the docket number for this notice (USCG-2014-0879) in the Search box, and click “Search”. Please do not post your resume on this site.

Note that during the vetting process applicants may be asked to provide date of birth and social security number. All email submittals will receive receipt confirmation.

Dated: December 5, 2014.
K. S. Cook,
Rear Admiral, U.S. Coast Guard, Commander, Eighth Coast Guard District.

[FR Doc. 2015-00797 Filed 1-16-15; 8:45 am]

BILLING CODE 9110-04-P